DEPARTMENT OF COMMERCE

International Trade Administration

Secretarial Business Development Mission to Ghana and South Africa

AGENCY: International Trade Administration, Department of Commerce.

ACTION: Notice to Announce Secretary Evans-Business Development Mission to Ghana and South Africa, November 12-15, 2002.

SUMMARY: Secretary of Commerce Donald L. Evans will lead a senior-level business development mission to Accra, Ghana and Johannesburg, South Africa November 12-15, 2002. The delegation will include approximately 15 U.S.-based senior executives of small, medium, and large U.S. firms representing a variety of business sectors but not limited to leading sectors for each country as listed below in Section II. These key sectors reflect Africa's infrastructure needs, the growth of consumer society, and the increase in manufacturing created by the Africa Growth and Opportunity Act (AGOA).

DATES: Applications should be submitted to the Office of Business Liaison by September 20, 2002. Applications received after that date will be considered only if space and scheduling constraints permit.

FOR FURTHER INFORMATION CONTACT: Office of Business Liaison; Room 5062; Department of Commerce; Washington, DC 20230; Tel: (202) 482-1360; Fax: (202) 482-4054.

SUPPLEMENTARY INFORMATION:

Secretarial Business Development Mission to Ghana and South Africa

November 12-15, 2002

Mission Statement

I. Description of the Mission

Secretary of Commerce Donald L. Evans will lead a senior-level business development trade mission to Accra, Ghana and Johannesburg, South Africa November 12-15, 2002. The delegation will include approximately 15 U.S.-based senior executives of small, medium, and large U.S. firms representing a variety of business sectors but not limited to leading sectors for each country as listed below in Section II. These key sectors reflect Africa's infrastructure needs, the growth of a consumer society, and the increase in manufacturing created by the Africa Growth and Opportunity Act (AGOA).

The overall focus of the trip will be commercial opportunities for U.S. companies, including joint ventures, presented by the continuing market liberalization and privatization underway in these countries. In both Ghana and South Africa, briefings and one-on-one business appointments will be arranged for members of the business delegation. The participation fee for the trade mission will be between $6,000—$8,000 per company.

II. Commercial Setting for the Mission

Ghana: With the inauguration of the administration of President John Kufuor in December 2000, Ghana has become a West African leader in promoting economic reforms and establishing democratic institutions. President Kufuor has improved Ghana's economic situation through pragmatic policies aimed at political and economic stability, low inflation, and smaller fiscal deficits.

Often referred to as the “Gateway to Africa”, Ghana is moving towards becoming a hub for commercial activity in West Africa. The country should become a middle income country by 2020 with President Kufuor aiming to institute a “Golden Age of Business” in Ghana. With $200 million of U.S. merchandise exports in 2001, Ghana is one of America's largest markets in Sub-Saharan Africa, and the bilateral commercial relationship between the United States and Ghana is one of the most diverse in the region. Ghana is a beneficiary country under the African Growth and Opportunity Act (AGOA) and its AGOA apparel eligibility provides a firm foundation for increased investment and stronger trade with the United States.

The leading sectors for exports to Ghana include telecommunications equipment, computers and peripherals, pharmaceuticals, electrical power systems, construction and earth moving equipment, mining industry equipment, food processing and packaging equipment, and hotel/restaurant equipment.

Standard and Poor's, a reflection of the country's sound economic fundamentals and stable macroeconomic policy.

South Africa: South Africa's pivotal, post-apartheid economic transformation remains sharply focused and widely respected internationally. Globalization is bringing with it new opportunities for expanded trade and investment. South Africa has been among Africa's leading beneficiaries under AGOA. The primary attraction for doing business in South Africa is the size and sophistication of the economy. South Africa accounts for more than 45% of Sub-Saharan Africa's Gross Domestic Product, and it is by far the United States' largest export market in Sub-Saharan Africa. U.S. exports to South Africa totaled $2.9 billion last year, accounting for approximately 40% of total U.S. exports to the region. In 2001, real GDP growth was 2.2%. South Africa's single greatest challenge is to accelerate growth and transform the economy so prosperity may be shared widely. Across the country, there are about 900 U.S. firms doing business in South Africa, up from approximately 250 in the mid-1990s. The United States is the largest foreign investor in South Africa since 1994.

The best sectors for exports to South Africa include telecommunications, information technology, transportation, energy and power generation, environmental technologies, security and safety equipment, health care products, earth moving equipment, mining industry equipment, food processing, packaging equipment, and cosmetics/hair care products.

III. Goals for the Mission

The mission will further both U.S. commercial policy objectives and advance specific business interests. It is aimed at:

• Introducing American companies to Ghana and South Africa and promoting expanded commercial opportunities in these countries;

• Enhancing the dialogue between government and industry on issues affecting the development of U.S.-African commercial relations;

• Removing impediments to market access encountered by U.S. firms in Ghana and South Africa;

Advocating for U.S. firms;

• Emphasizing the benefits of international trade for improving the standard of living and quality of life; and

• Highlighting examples of the corporate citizenship and active involvement by U.S. businesses in the communities where they operate in the United States and abroad.

IV. Scenario for the Mission

The mission will provide participants with exposure to high-level business and government contacts and an understanding of market trends and the commercial environment. American Embassy officials will provide a detailed briefing on the economic, commercial and political climate, and participants will receive individual counseling on their specific interests from U.S. Commercial Service industry specialists. Meetings will be arranged as appropriate with senior government officials and potential business partners. Representational events also will be organized to provide mission participants with opportunities to meet Ghana and South Africa's business and government representatives, as well as U.S. business people living and working in Africa.

The tentative trip itinerary will be as follows:

November 12—Accra, Ghana

November 13—Accra, Ghana

November 14—Johannesburg, South Africa

November 15—Johannesburg, South Africa

The Commerce Department's U.S. and Foreign Commercial Service will provide logistical support for these activities at each stop.

V. Criteria for Participant Selection

The recruitment and selection of private sector participants for this mission will be conducted according to the “Statement of Policy Governing Department of Commerce-Overseas Trade Missions” established in March 1997 (http://www.ita.doc.gov/doctm/tmpol.html). Promotion and recruitment will include, but not be limited to, posting on appropriate Department of Commerce web pages, notification in the Federal Register, and distribution of the trade mission statement and further information to national and other trade associations and trade publications. Approximately 15 companies will be selected for the mission. Companies will be selected according to the criteria set out below.

Eligibility

Participating companies must be incorporated in the United States. A company is eligible to participate only if the products and/or services that it will promote (a) are manufactured or produced in the United States; or (b) if manufactured or produced outside the United States, are marketed under the name of a U.S. firm and have U.S. content representing at least 51 percent of the value of the finished good or service.

Selection Criteria

Companies will be selected for participation in the mission on the basis of:

• Consistency of company's goals with the scope and desired outcome of the mission as described herein;

• Relevance of a company's business and product line to market opportunities in Ghana and South Africa;

• Seniority of the representative of the designated company;

• Past, present, or prospective international business activity;

• Diversity of company size, type, location, demographics, and traditional under-representation in business;

• Degree of company's commitment to corporate citizenship.

An applicant's partisan political activities (including political contributions) are irrelevant to the selection process.

VI. Time Frame for Applications

Applications for the trade mission to Ghana and South Africa will be made available beginning on Wednesday, August 7, 2002. The fee to participate in the mission will be between $6,000-$8,000 per company and will not cover travel or lodging expenses. Please note that this fee is subject to change due to the in-country travel requirements. Expenses for travel, lodging, and some meals will be the responsibility of each participant. As noted above, each participant must fund his/her own travel to Accra, Ghana, the starting point for the mission. For additional information on the trade mission or to obtain an application, contact the Department of Commerce Office of Business Liaison at 202-482-1360. Applications should be submitted to the Office of Business Liaison by September 20, 2002, in order to ensure sufficient time to obtain in-country appointments for applicants selected to participate in the mission. Applications received after that date will be considered only if space and scheduling constraints permit.

Contact: Office of Business Liaison, Room 5062, Department of Commerce, Washington, DC 20230, Tel: (202) 482-1360, Fax: (202) 482-4054, Mission Web Site: http://www.doc.gov/africatrademission.

Dated: August 9, 2002.
Maria Cino,
Assistant Secretary and Director General.

[FR Doc. 02-20697 Filed 8-14-02; 8:45 am]

BILLING CODE 3510-FP-P